DEPARTMENT OF STATE

22 CFR Part 22

[Public Notice 3407]

Schedule of Fees for Consular Services, Department of State and Overseas Embassies and Consulates

AGENCY: Bureau of Consular Affairs.

ACTION: Final rule.

SUMMARY: This final rule amends the Schedule of Fees for Consular Services. Specifically, it establishes a fee for the review of the Affidavit of Support (Form I-864), when submitted in support of an application for immigration to the United States.

DATES: The effective date for the new AOS fee is October 1, 2000. I-864 forms sent to petitioners by the National Visa Center (NVC) or by posts overseas after October 1, 2000, will be subject to the new AOS fee as stated below.

ADDRESSES: Office of the Executive Director, Bureau of Consular Affairs, Department of State, SA-1, 10th Floor, 2401 E Street, NW., Washington, DC 20522-0111; telefax (202) 663-2499.

FOR FURTHER INFORMATION CONTACT: Alcy Frelick, Office of the Executive Director, Bureau of Consular Affairs, Department of State, SA-1, 10th Floor, 2401 E Street, NW., Washington, DC 20522-0111; telefax (202) 663-2499; email address frelickar@state.gov.

SUPPLEMENTARY INFORMATION: The amendment to the Schedule of Fees was published as a proposed rule on March 13, 2000 (65 FR 13253-13254). During the 30-day public comment period, three written comments were received from the general public. Those comments are addressed below. For the reasons explained, the Department is setting the Affidavit of Support fee (AOS fee) at $50.00 as originally proposed, but will be making a change to the effective date of the rule to address concerns raised by the commenters.

The public comments received by the Department focused on two aspects of the proposed new AOS fee: (1) That only one AOS fee should be charged per immigrant visa case (i.e. for all I-864 forms submitted in connection with an immigrant visa case comprised of a principal applicant and his/her eligible dependents) and (2) that the new AOS fee should not be charged until service to potential immigrants and their sponsors improves. The Department's response to the comments received is described below.

Only a single fee per family should be charged: The Department received comments from two sources expressing concern about the proposal to charge the AOS fee for each I-864 form submitted in support of an immigration case. The commenters argue that in cases where multiple I-864 forms are required in order to overcome the public charge provision, only one AOS fee should be charged.

Because the revenue from this fee is to be used to recover the costs of providing assistance to sponsors, co-sponsors and joint sponsors completing the I-864 form in support of an application for immigration to the United States, the Department cannot concur in this recommendation. One AOS fee will be charged for each I-864 form filed by the sponsor/petitioner, but no additional fee will be charged for an I-864a form filed by a co-sponsor. However, an additional AOS fee will be assessed for each I-864 form filed by any joint sponsor, as each individual submitting the I-864 form could potentially require assistance in completing the form. The services will be available to any party requiring assistance regardless of whether the person is a primary or a joint sponsor. It should also be noted that no additional AOS fee will be assessed when essentially duplicative I-864 forms are submitted on behalf of beneficiaries of separate petitions (for example, for parents of a US citizen for whom separate petitions must be filed).

The Department initially proposed imposing a separate AOS fee for the primary and each joint I-864 form submitted on behalf of an immigrant visa applicant because each I-864 form must be reviewed separately for technical completeness and assessed separately when evaluating the applicant's eligibility vis-a-vis the public charge provision. The Department has reviewed this proposal in light of comments received and decided that averaging the costs of evaluating all I-864 forms into a single, uniform AOS fee per immigrant visa case would not be equitable for all applicants. Establishing a single AOS fee for an immigrant visa case would necessitate setting a higher fee to recover all the costs of the services provided and hence would result in all primary sponsors subsidizing a limited number of joint sponsors. Requiring payment of the AOS fee for each I-864 form submitted will also simplify the Department's fee collection procedures, thus reducing administrative costs.

The fee should be assessed only after service improves: One commenter took the view that the proposed fee would simply present another impediment in the process and would not result in improved service to potential applicants. However, the Department has already undertaken to improve service to applicants, and the revenue from the AOS fee will enable the Department to expand those services and to add additional ones.

In December 1998, the National Visa Center (NVC) established a pilot program (the AOS review program) to review the I-864 forms submitted for applicants applying at three posts—Ciudad Juarez, Manila and Santo Domingo. The Department undertook this review process to ensure that all I-864 forms sent to the pilot posts would be technically correct (the signatures properly notarized, the form completed, and all relevant supporting documentation attached). While the start-up period involved some delays, the process is now in place and functioning smoothly. The results of the pilot project have been positive with reduced refusal rates for the pilot posts. The I-864 forms submitted in support of immigrant visa applications at those posts are now technically more complete than previously, resulting in a reduced number of repeat interviews.

The AOS review program at NVC has recently been expanded to review I-864 forms submitted for immigrants processed at 10 posts. These ten posts (Manila, Ciudad Juarez, Santo Domingo, Guangzhou, Bogota, Port au Prince, Georgetown, Freetown, Tirana and Montreal) represent approximately 40% of the worldwide immigrant visa caseload. The I-864 forms for these posts are now being reviewed for technical completeness at NVC before the files go overseas. It is anticipated that the AOS review program at NVC will continue to expand until all I-864 forms submitted to posts overseas are reviewed for technical completeness prior to being sent to posts.

The Department is also in the process of contracting for a call center that will be available to assist sponsors in the United States in answering questions arising during the completion of the I-864 form. Another part of the Department's efforts to improve service is the development of a website that will provide line-by-line information to clarify the I-864 form. Both the website and call center should be operational in early FY01.

Effective Date

The new Affidavit of Support Fee will take effect October 1, 2000. When the proposed rule was published, it was anticipated that the fee would become effective June 1, 2000. That date has been pushed back to provide additional time to initiate new services for sponsors in the US.

Background Authority To Assess Fees

Public Law 106-113, enacted November 29, 1999, authorizes the Secretary of State to charge and retain a fee for the processing of a sponsor's Affidavit of Support (Form I-864). The Secretary of State is also authorized under Executive Order 10718 of June 27, 1957, to exercise the President's authority under 22 U.S.C. 4219 to prescribe the fees to be charged for official services performed by the Department of State. This authority has been delegated to the Under Secretary for Management. The Schedule of Fees for Consular Services is set forth in 22 CFR 22.1, as amended on December 1, 1999 [64 FR 66769]. After an initial review of the costs, the AOS fee has been set initially at $50 per sponsor or joint sponsor filing an I-864 form.

The Affidavit of Support Processing Fee

This rule amends the Schedule of Fees for Consular Services by adding a new item: “61. Affidavit of Support Processing Fee.” It establishes a fee to cover the costs of providing assistance to any sponsor or joint sponsor who provides an I-864 form) under section 213A of the Immigration and Nationality Act (8 U.S.C. 1183a) for an immigrant visa applicant. The purpose of the assistance will be to help a sponsor or joint sponsor to complete such affidavit properly before it is forwarded to a consular post for adjudication by a consular officer in connection with an application for an immigrant visa. The AOS fee will be in addition to, and separate from, any fee imposed for immigrant visa application processing and issuance. The costs to be recovered by the AOS fee are not recovered by the immigrant visa application processing and issuance fees.

This new AOS fee will be charged only once for essentially duplicative I-864 forms filed in support of additional members of one family, made up of spouse, parents and minor unmarried children; even if each member of the family is being processed individually for immigration to the United States or if the family member may have had a separate immigrant visa petition filed on his/her behalf.

The Department will assess one AOS fee for each distinct I-864 form submitted, whether it is filed by the primary sponsor or by a joint sponsor. No AOS fee will be charged for co-sponsors filing I-864a forms. If more than one I-864 form is needed to fulfill the requirements of the law, the Department will assess one fee for each separate affidavit. A new AOS fee will be assessed if a new I-864 form is required in support of any application for immigration (for example, when a joint sponsor is needed for an application that has been rejected due to section 212(a)(4), inability to qualify under the public charge provision of the Immigration Act). The AOS fee is non-refundable as it is a processing fee.

Regulatory Findings

Administrative Procedure Act

The Department is publishing this rule as a final rule pursuant to 5 U.S.C. 553(a)(2) and the “good cause” provisions of 5 U.S.C. 553(b)(B); notice and comment are not necessary in light of the fact that this rule relates to agency management and merely establishes or removes visa symbols used internally by the Department. The rule makes no substantive regulatory changes.

Regulatory Flexibility Act

The Department of State, in accordance with the Regulatory Flexibility Act (5 U.S.C. 605(b)), has reviewed this regulation and, by approving it, certifies that this rule will not have a significant economic impact on a substantial number of small entities.

Unfunded Mandates Reform Act of 1995

This rule will not result in the expenditure by State, local and tribal governments, in the aggregate, or by the private sector, of $1 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $1 million or more; a major increase in costs or prices; or significant adverse effects on competition, employment, investment, productivity, innovation, or on the ability of United States-based companies to compete with foreign-based companies in domestic and export markets.

Executive Order 12866

The Department of State does not consider this rule, to be a “significant regulatory action” under Executive Order 12866, section 3(f), Regulatory Planning and Review, and the Office of Management and Budget has waived its review process under section 6(a)(3)(A).

Executive Order 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or record-keeping requirements subject to the Paperwork Reduction Act, 44 U.S.C. Chapter 35.

Final Rule

List of Subjects in 22 CFR Part 22

Passports and visas, Schedule of consular fees.

Accordingly, this rule amends 22 CFR part 22 as follows:

PART 22—[AMENDED]

1. The authority citation for part 22 continues to read as follows:

Authority: 8 U.S.C. 1153 note, 1351, 1351 note; 10 U.S.C. 2602(c); 22 U.S.C. 214, 2504(a), 4201, 4206, 4215, 4219; 31 U.S.C. 9701; E.O. 10718, 22 FR 4632, 3 CFR, 1954-1958 Comp., p. 382; E.O. 11295, 31 FR 10603, 3 CFR, 1966-1970 Comp., p. 570.

2. In § 22.1, add item 61 as the last item under “Visa Services” to read as follows:

§ 22.1 Schedule of fees.

Item No. | Fee
* * * * * * *
61. Affidavit of Support Processing Fee: | $50.00
* * * * * * *

Dated: August 2, 2000.
Bonnie R. Cohen,
Under Secretary for Management, U.S. Department of State.

[FR Doc. 00-22833 Filed 9-6-00; 8:45 am]

BILLING CODE 4710-06-P